DEPARTMENT OF HEALTH AND HUMAN SERVICES

Administration for Children and Families

Proposed Information Collection Activity; Unaccompanied Children Bureau Administrative Activities (Office of Management and Budget #: 0970-0547)

AGENCY: Office of Refugee Resettlement, Administration for Children and Families, U.S. Department of Health and Human Services.

ACTION: Request for public comments.

SUMMARY: The Office of Refugee Resettlement (ORR), Administration for Children and Families (ACF), U.S.

Department of Health and Human Services (HHS) is inviting public comment on revisions to an approved information collection, Office of Management and Budget (OMB) #0970-0547. The request consists of several forms that allow ORR to perform Unaccompanied Children Bureau (UCB)-related administrative activities, such as facilitating stakeholder visits to care provider facilities; obtaining consent from children to share their case file information; and processing requests and waivers for the hiring of key and non-key personnel at care provider facilities.

DATES: Comments due February 18, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: This request is to remove six forms, which will be transferred into a new information collection, and revise four existing forms in this collection. ORR also proposes retitling this information collection from “Administration and Oversight for the Unaccompanied Children Program” to “Unaccompanied Children Bureau Administrative Activities” to better describe the types of forms in the information collection and to reflect with a recent name change for the program.

Forms Being Removed and Transferred into a New Information Collection

ORR UCB is in the process of reorganizing its information collections to create more unique information collections that will contain fewer forms under each OMB control number. This will promote operational efficiency for UCB by decreasing the burden associated with renewing large collections and enabling UCB to create more purpose-specific information collections. In addition, this will facilitate OMB review by ensuring the scope of the collection is targeted and narrower than existing collections, resulting in clearer requests. As part of that reorganization effort, ORR plans to move the following forms into a new information collection titled “Incident Reporting for the Unaccompanied Children Bureau.” This request and the request for the new Incident Reporting information collection will be submitted to OMB concurrently.

• Child-Level Event (Form A-9A)

• Emergency Significant Incident Report (Form A-9B)

• Significant Incident Report (Form A-9C)

• Historical Disclosure (Form A-9D)

• Behavioral Note (Form A-9E)

• Program-Level Event Report (Form A-10)

Revisions to Existing Forms

ORR plans to make the following revisions to existing forms in this information collection:

• Notice to Unaccompanied Children for Flores Visits (Forms A-4)

○ Change the title of the form from “Notice to UC for Flores Counsel Visits” to “Notice to Unaccompanied Children for Flores Counsel Visits”

• Care Provider Facility Tour Request (Form A-1A)

○ Retitle the form from “Care Provider Facility Tour Request” to “Care Provider Facility Tour and Visit Request” to better represent the purpose of the form. In addition to tours, the form may also be used to request visits (requests to come onsite that do not involve a formal tour of the facility).

○ Update the words “tour” or “visit” to read “tour or visit” wherever they appear by themselves in the form (as applicable).

○ Reword parts of the introductory text at the top of the form and instructions throughout the form for clarity.

○ Add “including HHS, ACF, ORR employees, and ORR contractors” in parentheses after the “Federal Agency” option for the “Type of Visitor” field to clarify which federal agencies must complete the form.

○ Revise the burden estimate to account for an increase in the number of requests submitted and more accurately reflect how long it takes to complete the form. The annual number of respondents increased from 200 to 620 and the average burden hours per response increased from 0.17 to 0.33.

• Key Personnel Minimum Qualifications Checklist and Attestation (Form A-14)

○ Revise the introductory text to the form to remove repetition and improve readability.

○ Revise Section D: Candidate Minimum Qualifications to:

▪ Reorganize how the minimum qualifications for each position are displayed to make it easier for the respondent to understand the requirements.

▪ Change the “Candidate does not meet minimum qualification” checkbox into a question that asks “Does the candidate meet the minimum qualification?” with yes/no options so that the respondent may more clearly communicate whether the candidate meets minimum qualifications.

▪ Update the qualifications for each position and add two new positions (Background Check Specialist and Lead Medical Coordinator) to reflect revisions that are under consideration for ORR's residential services cooperative agreement.

○ Revise the burden estimate to account for an increase in the number of care provider facilities, a decrease in the number of forms submitted, and more accurately reflect how long it takes to complete the form. The annual number of respondents increased from 235 to 300, the annual number of responses per respondent decreased from nine to six, and the average burden hours per response increased from 0.17 to 0.42.

• ORR Waiver Request (Form A-15)

○ Add a burden statement at the top of the form.

○ Break the form into several sections to make it more digestible for respondents.

○ Rephrase several field labels for clarity and succinctness.

○ Add a field for the respondent to specify whether they are a care provider facility or a home study or post-release service provider.

○ Change the “Type of Facility/Provider” field label to “Level of Care” and update the related checkbox options to better reflect care provider facility levels of care.

○ Add a place where respondents can upload a supervision or training plan when applicable for their request.

○ Revise the burden estimate to account for an increase in the number of care provider facilities. The annual number of respondents increased from 235 to 300.

Revisions to Burden Estimates Only for Existing Forms

• Authorization for Release of Records (Form A-5)

○ Revise the burden estimate to account for an increase in the number records requests submitted and more accurately reflect how long it takes to complete the form. The annual number of respondents increased from 4,000 to 9,620 and the average burden hours per response increased from 0.25 to 0.5.

Respondents: ORR grantee and contractor staff; advocacy groups, faith-based organizations, researchers, and government officials; attorneys, legal service providers, child advocates, and government agencies; and other stakeholders.

Annual Burden Estimates:

Form | Annual number of respondents | Number of responses per respondent | Average burden hours per response | Annual total burden hours
Care Provider Facility Tour Request (Form A-1A) | 620 | 1 | 0.33 | 205
Notice to Unaccompanied Children for Flores Visits (Forms A-4 and A-4s) | 20 | 1 | 0.25 | 5
Authorization for Release of Records (Form A-5) | 9,620 | 1 | 0.50 | 4,810
Key Personnel Minimum Qualifications Checklist and Attestation (Form A-14) | 300 | 6 | 0.42 | 756
ORR Waiver Request (Form A-15) | 300 | 2 | 0.33 | 198
Estimated Annual Burden Hours Total: |  |  |  | 5,974

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; 45 CFR 410; Flores v. Reno Settlement Agreement, No. CV85-4544-RJK (C.D. Cal. 1996)

Mary C. Jones,
ACF/OPRE Certifying Officer.

[FR Doc. 2024-30384 Filed 12-19-24; 8:45 am]

BILLING CODE 4184-45-P